DEPARTMENT OF COMMERCE

Foreign-Trade Zones Board

[Docket 4-2007]

Foreign-Trade Zone 121 - Albany, New York, Application for Subzone, MPM Silicones, LLC, Extension of Comment Period

The comment period for the application for subzone status at the MPM Silicones, LLC facility in Waterford, New York, submitted by the Capital District Regional Planning Commission (72 FR 6518, 2/12/07), is being extended to June 6, 2007 to allow interested parties time to comment on new information to be submitted to the FTZ Board in response to questions stemming from the April 18, 2007, hearing held in this case. Rebuttal comments may be submitted during the subsequent 15-day period, until June 21, 2007. Submissions (original and 3 copies) shall be addressed to the Board's Executive Secretary at: Foreign-Trade Zones Board, U.S. Department of Commerce, Room 2814B, 1401 Constitution Ave. NW, Washington, DC 20230.

For further information, contact Elizabeth Whiteman at Elizabeth_Whiteman@ita.doc.gov or (202) 482-0473.

Dated: April 24, 2007.
Andrew McGilvray,
Executive Secretary.

[FR Doc. E7-8372 Filed 5-1-07; 8:45 am]

BILLING CODE 3510-DS-S